DEPARTMENT OF TRANSPORTATION

Federal Highway Administration

Environmental Impacts Statement: Yamhill County, OR

AGENCY: Federal Highway Administration (FHWA), DOT.

ACTION: Notice of intent.

SUMMARY: The FHWA is issuing a notice to advise the public that an Environmental Impact Statement (EIS) will be prepared for a proposed highway project in Yamhill County, Oregon.

FOR FURTHER INFORMATION CONTACT: Elton Chang, PE, Environmental Coordinator, FHWA Oregon Division, 530 Center Street NE., Suite 100, Salem, OR 97301, (503) 399-5749, elton.chang@fhwa.dot.gov.

SUPPLEMENTARY INFORMATION: The FHWA, in cooperation with the Oregon Department of Transportation (ODOT), will prepare a Design (Tier 2) Environmental Impact Statement (EIS) on a proposal to construct the Newberg Dundee Bypass (Bypass), in Yamhill County, Oregon. The proposed Bypass project is a part of the Newberg Dundee Transportation Improvement Project (NDTIP), which seeks to improve regional and local transportation along the Oregon Highway 99W corridor in the Newberg and Dundee area by reducing traffic congestion. The proposed Bypass project area encompasses a section of OR Highway 99W that extends northeast across Yamhill County from the OR Highway 99W/OR Highway 18 intersection near Dayton to Rex Hill east of the City of Newberg. The eastern terminus is located at OR Highway 99W mile post 20.08. The western terminus is located where OR Highway 99W intersects with Oregon 18 at OR Highway 18 mile post 51.84.

FHWA and ODOT are conducting the environmental analysis of the Bypass in a two-tiered NEPA process. The Tier 1 work, which was the subject of a Location Environmental Impact Statement LFEIS, identified feasible alternative corridors for the Bypass project, and culminated in a Record of Decision on the preferred corridor alternative. This Preferred Alternative will be carried forward through the Tier 2, DEIS analysis for more detailed study. The Tier 2 work will involve further refinement of the Preferred Alternative, including locating the Bypass within the preferred corridor, evaluation of detailed engineering options, and additional environmental analysis.

Improvements to the corridor are considered necessary to provide for the existing and projected traffic demand and to reduce congestion. Traffic congestion and travel delays have reached unacceptable levels for those who live and work in or travel through Newberg, Dundee and the surrounding areas. By 2025, Newberg and Dundee are expected to have congestion in their downtowns for over 14 hours a day. The 2002 peak period travel time between East Newberg and Dayton is about 25 minutes. Without the Bypass the travel time in 2025 will be 40 minutes on OR Highway 99W. If the Bypass were constructed the travel time between East Newberg and Dayton on OR Highway 99W would be 19 minutes and the travel time on the Bypass would be 12 minutes.

ODOT uses volume to capacity ratios to measure the levels of mobility on state highways. The ratios show the volume of traffic over the capacity of the highway to handle traffic. When the ratio approaches 1.0 the entire capacity of the highway is being used and the highway is very congested. At this point even minor disruptions in flow can cause severe backups. The v/c ratios for most of the major intersections on OR Highway 99W in Newberg and Dundee exceeded 1.0 in 2002 during peak travel periods. ODOT's policy and the goal set by the Newberg Dundee Transportation Improvement Project Oversight Steering Team for urban highways is a volume to capacity ratio of 0.75.

Newberg and Dundee want to make their downtowns more pedestrian friendly. Noise levels measured on the sidewalk in Newberg in 2002 were 72 decibels. This is loud enough to require that people need to raise their voices to converse. The heavy truck traffic through town is the source of most of the noise. Truck traffic also adds to the congestion in the towns. By 2025, Dundee is expected to have about 3,700 freight trips per day rumbling through town and Newberg is expected to have 4,400 freight trips per day.

Alternatives under consideration include alternatives within the approved corridor and the No Build alternative for comparison purposes and various design options.

Letters describing the proposed action and soliciting comments related to this proposed action will be sent to Federal, State and local agencies, and to private organizations and citizens who have previously expressed or are known to have interest in this proposal. A public meeting will be held on October 11, 2005, in Newberg, Oregon to initiate the DEIS scoping process and present project information. ODOT expects to publish a draft DEIS by the end of 2006. After publication of the draft DEIS, a minimum of 30 days will be scheduled for a public comment period. In addition, a public hearing will be held on the draft DEIS. Public notice will be given of the time and location of the meeting and public hearing. The draft DEIS will be available for public and agency review and comment prior to the public hearing. No formal scoping meeting will be held.

To ensure that the full range of issues related to this proposed action are addressed and all significant issues identified, comments and suggestions are invited from all interested parties. Comments or questions concerning this proposed action and the DEIS should be directed to the FHWA at the address provided above. (Catalog of Federal Domestic Assistance Program Number 20.205, Highway Research, Planning and Construction. The regulations implementing Executive Order 12372 regarding intergovernmental consultation on Federal programs and activities shall apply to this program.)

For additional details on the Newberg-Dundee Bypass Project and how to get involved, please use our project Internet Web site: http://www.newbergdundeebypass.org.

If you do not have Internet access, please call David Stocker at (503) 963-7891 to be placed on a mailing list for newsletters and meeting notices.

Dated: Issued on October 4, 2005.
Elton Chang,
Environmental Coordinator, Oregon Division, FHWA.

[FR Doc. 05-20562 Filed 10-13-05; 8:45 am]

BILLING CODE 4910-22-M